DEPARTMENT OF THE INTERIOR

Fish and Wildlife Service

50 CFR Part 17

[FWS-R2-ES-2008-0130; MO 9221050083]

Endangered and Threatened Wildlife and Plants; Partial 90-Day Finding on a Petition To List 475 Species in the Southwestern United States as Threatened or Endangered With Critical Habitat

AGENCY: Fish and Wildlife Service, Interior.

ACTION: Notice of 90-day petition finding.

SUMMARY: We, the U.S. Fish and Wildlife Service (Service), announce a 90-day finding on 270 species from a petition to list 475 species in the southwestern United States as threatened or endangered under the Endangered Species Act of 1973, as amended (Act). We find that for these 270 species the petition does not present substantial scientific or commercial information indicating that listing these species may be warranted. Therefore, for these 270 species, we will not initiate a further status review in response to this petition. We ask the public to submit to us any new information that becomes available concerning the status of these 270 species or threats to them or their habitat at any time. This information will help us monitor and encourage the conservation of these species. An additional 5 species of the 475 included in the petition do not fall within the scope of the petition or are not a listable entity and, therefore, were not considered in this finding (see Petition).

DATES: The finding announced in this document was made on January 6, 2009. You may submit new information concerning this species for our consideration at any time.

ADDRESSES: This finding is available on the Internet at http://www.regulations.gov. Supporting information we used in preparing this finding is available for public inspection, by appointment, during normal business hours, at the U.S. Fish and Wildlife Service, Southwest Regional Ecological Services Office, 500 Gold Ave., SW., Albuquerque, NM 87102. Please submit any new information, materials, comments, or questions concerning these species or this finding to the above address.

FOR FURTHER INFORMATION CONTACT: Nancy Gloman, Assistant Regional Director, Southwest Regional Ecological Services Office (see ADDRESSES); telephone 505/248-6920; facsimile 505/248-6788. If you use a telecommunications device for the deaf (TDD), please call the Federal Information Relay Service (FIRS) at 800-877-8339.

SUPPLEMENTARY INFORMATION:

Background

Section 4(b)(3)(A) of the Act (16 U.S.C. 1531 et seq.) requires that we make a finding on whether a petition to list, delist, or reclassify a species presents substantial scientific or commercial information to indicate that a petitioned action may be warranted. We are to base this finding on information provided in the petition. To the maximum extent practicable, we are to make the finding within 90 days of our receipt of the petition, and publish our notice of this finding promptly in the Federal Register.

Our standard for “substantial information,” as defined in the Code of Federal Regulations at 50 CFR 424.14(b), with regards to a 90-day petition finding is “that amount of information that would lead a reasonable person to believe that the measure proposed in the petition may be warranted.” If we find that substantial information was presented, we are required to promptly commence a status review of the species.

In making this finding, we based our decision on information provided by the petitioner that we determined to be reliable after reviewing sources referenced in the petition and otherwise available in our files. We evaluated that information in accordance with 50 CFR 424.14(b). Our process for making this 90-day finding under section 4(b)(3)(A) of the Act is limited to a determination of whether the information in the petition meets the “substantial information” threshold.

Petition

On June 25, 2007, we received a formal petition dated June 18, 2007, from Forest Guardians (now WildEarth Guardians) requesting that the Service: (1) Consider all full species in our Southwest Region ranked as G1 or G1G2 by the organization NatureServe, except those that are currently listed, proposed for listing, or candidates for listing; and (2) list each species as either endangered or threatened with critical habitat. The petition incorporates all analyses, references, and documentation provided by NatureServe in its online database at http://www.natureserve.org/ into the petition. The petition clearly identified itself as a petition and included the identification information, as required in 50 CFR 424.14(a). We sent a letter to the petitioners dated July 11, 2007, acknowledging receipt of the petition and stating that the petition was under review by staff in our Southwest Regional Office. On June 18, 2008, we received a petition from WildEarth Guardians dated June 12, 2008, to emergency list 32 species under the Administrative Procedure Act (APA) and the Endangered Species Act. Of those 32 species, 21 were included in the June 18, 2007, petition to be listed on a non-emergency basis. In a letter dated July 22, 2008, we stated that the information provided in both the 2007 and 2008 petitions and in our files did not indicate that an emergency situation existed for any of the 21 species. This letter concludes our processing of the emergency aspect of the 2008 petition under the APA. The following discussion presents our partial evaluation of the June 18, 2007 and June 12, 2008 petitions, based on information provided in the petition and our current understanding of the species.

The 2007 petition included a list of 475 species. One species, Salina mucket (Potamilus metnecktayi), is also known by the scientific name Disconaias salinasensis; we were petitioned to list the species under both names. The species files in NatureServe for these two names are identical. For the remainder of our review we used the name P. metnecktayi; therefore, we reviewed only 474 actual species files. This finding addresses 270 of the 475 species for which we were petitioned. The remaining 200 species will be addressed in one or more additional 90-day findings in the future. Although we are not making a finding on the remaining 200 species at this time, the lack of inclusion of those species in this finding does not imply that we are making or will make a positive finding on any or all of the remaining species. Our priority for responding to a petition is a function of the resources that are available and competing demands for those resources.

Because the petition requested that we consider all species from the list that were not currently listed, proposed for listing, or candidates for listing, 3 of the 474 species were also not included in the review. Quitobaquito pupfish (Cyprinodon eremus) is currently listed as endangered under the name desert pupfish (Cyprinodon macularius eremus). In Arizona, this family was historically represented by two recognized subspecies, Cyprinodon m. macularius and C. m. eremus, and an undescribed species, the Monkey Spring pupfish. Minckley et al. (2002, p. 701) raised C. m. eremus to a full species, C. eremus. The species is listed as endangered throughout its range, so we did not consider it as part of this petition. On December 13, 2007, we made a 12-month finding that the Jollyville Plateau salamander (Eurycea tonkawae) warrants listing, but that listing is precluded by higher listing priorities (72 FR 71040), thus rendering the species to candidate status. On December 6, 2007, we published our annual review of native species that are candidates for listing as endangered or threatened (72 FR 69034), in which we made the San Bernadino springsnail (Pyrgulopsis bernardina) a candidate species. Because these three species, Quitobaquito pupfish, Jollyville Plateau salamander, and San Bernardino springsnail, are currently listed or are candidates for listing, and we were petitioned to list species that are not listed or candidates, they were not evaluated as part of this petition.

Agave arizonica (Arizona agave) was recently delisted (71 FR 35195; June 19, 2006) because it was determined to be a product of hybridization and, therefore, not a listable entity. No new information was presented in the petition for Arizona agave. Because of its current status, the Arizona agave was not considered in our review. After eliminating review of Quitobaquito pupfish, Jollyville Plateau salamander, San Bernardino springsnail, and Arizona agave, there were 470 species files to continue with our review in the NatureServe database.

This finding addresses 270 of the 470 species for which we were validly petitioned. The remaining 200 species will be addressed in one or more additional 90-day findings in the future. Our priority for responding to a petition is a function of the resources that are available and competing demands for those resources. Thus, in any given fiscal year, multiple factors dictate whether it will be possible to undertake work on particular listing actions. The resources available for listing actions are determined through the annual Congressional appropriations process. The appropriation for the Listing Program is available to support work involving the following listing actions: Proposed and final listing rules; 90-day and 12-month findings on petitions to revise critical habitat and to add species to the Lists of Endangered and Threatened Wildlife and Plants or to change the status of a species from threatened to endangered; annual determinations on prior “warranted but precluded” petition findings as required under section 4(b)(3)(C)(i) of the Act; proposed and final rules designating critical habitat; and litigation-related, administrative, and program management functions (including preparing and allocating budgets, responding to Congressional and public inquiries, and conducting public outreach regarding listing and critical habitat). The work involved in preparing various listing documents can be extensive and may include, but is not limited to, gathering and assessing the best scientific and commercial data available and conducting analyses used as the basis for our determinations under section 4(a)(1) of the Act; writing and publishing documents; and obtaining, reviewing, and evaluating public comments and peer review comments on proposed rules and incorporating relevant information into final rules. The number of listing actions that we can undertake in a given year also is influenced by the complexity of those listing actions; that is, more complex actions generally are more costly.

We cannot spend more than is appropriated for the Listing Program without violating the Anti-Deficiency Act (see 31 U.S.C. 1341(a)(1)(A)). In addition, in FY 1998 and for each fiscal year since then, Congress has placed a statutory cap on funds which may be expended for the Listing Program, equal to the amount expressly appropriated for that purpose in that fiscal year. This cap was designed to prevent funds appropriated for other functions under the Act (e.g., Recovery funds for removing species from the Lists), or for other Service programs, from being used for Listing Program actions (see House Report 105-163, 105th Congress, 1st Session, July 1, 1997). Thus, through the listing cap and the amount of funds needed to address court-mandated listing actions, Congress and the courts have in effect determined the amount of money available for other listing activities. Therefore, the funds in the listing cap, other than those needed to address court-mandated listing actions, set the limits on our ability to fully respond to this petition. When funds become available, we will continue our review of the remaining petitioned species that are not addressed in this finding and publish one or more findings for those species.

Species Information

The petitioners presented two tables that collectively listed the 475 species for consideration and requested that the Service incorporate all analyses, references, and documentation provided by NatureServe in its online database into the petition. The information presented by NatureServe (http://www.natureserve.org/explorer/) is found in peer-reviewed professional journal articles and is considered to be a reputable source of scientific information. We judge this source to be reliable with regard to the information it presents.

We accessed the NatureServe database on July 5, 2007. We saved electronic and hard-copies of each species file and used this information, including references cited within these files, during our review. Therefore, all information we used from the species files in NatureServe was current to that date. All of the petitioned species were ranked by NatureServe as G1 (critically imperiled) or G1G2 (between critically imperiled and imperiled).

We reviewed all references cited in the NatureServe database species files that were available to us. For some species in NatureServe, there is a “Local Programs” link to the Web sites of the State programs that contribute information to NatureServe. We found this “Local Programs” link to have additional information for very few of the 470 species. We reviewed information in references cited in NatureServe and information readily available in our files, on the Internet, and in local libraries that was directly relevant to the information raised in the petition. For the 21 of the 32 species which were also included in the petition to emergency list dated June 12, 2008, we also used information provided in that petition. Following review of the available information, we separated the 470 species into categories based on the level of information found.

We were unable to readily locate one or more references, which we believed might contain additional information on threats for 82 of the species. Without review of those references, we could not be certain that we had assigned them to the correct category. Therefore, on May 12, 2008, we sent a letter to the petitioners requesting those references. The petitioners responded with copies of all but three of the requested references or information on how to purchase them. The date we received the last of the references from the petitioners was July 15, 2008. That did not provide us with sufficient time to review those references for 79 of the 82 species, so we have not addressed them in this finding, but we will consider them in one or more future findings. The 270 species included in this finding are listed in Table 1; they fit into four distinct information level categories.

The first category, titled Category A in Table 1, has only minimal information about each species, and in some cases no more information than the name of the species. An example of a species in this category that had minimal information is a cave obligate spider with no common name (Cicurina travisae). The NatureServe file for this species names the species, states that it is endemic to Texas, and lives in subterrestrial habitat. The file provides one reference (Gertsch 1992), which contains no information on threats to the species, but describes many spiders within the genus. The Gertsch publication describes the physical characteristics of C. travisae, diagrams of body parts, and some locations where it has been found with no information on the level of survey effort to determine its range (Gertsch 1992, p. 101). The magnitude and type of information provided for other species in this category was similar in nature, or was mainly taxonomic without as much locational information. Category A contains 225 species, of which 1 is a vertebrate, 189 are invertebrates, and 35 are plants.

Occasionally, generic information was presented in the NatureServe species files for a larger group of species we placed in Category A, such as for the class or family the species belongs to, but not specific information on the individual species. The references were taxonomic in nature or simply checklists (lists of species, for example Common and Scientific Names of Fishes from the United States and Canada (Robbins et al. 1991)) or taxonomic keys (which provide anatomical characteristics for identification of species) and did not address threats to the species. An example that illustrates the type of generic information that was presented for such species in Category A is Silver Creek woodlandsnail (Ashmunella binneyi). The NatureServe file for this species states the name of the species and lists one reference that is a checklist of names of aquatic invertebrates from the United States and Canada (Turgeon et al. 1998). The file contains no other information specific to Silver Creek woodlandsnail. The file does describe the basic biology of terrestrial snails (pulmonates) in general stating “terrestrial gastropods do not move much usually only to find food or reproduce” and “as a whole, pulmonates (previously Subclass Pulmonata) are better dispersers than prosobranchs (previously Subclass Prosobranchia) possibly due to their hermaphroditic reproduction increasing the chance of new colonization.” The identical language was used in other NatureServe files for terrestrial snail species, and no specific information was provided about the species or threats to the species or its habitat.

The information we reviewed for the species in Category B (see Table 1) contained basic information on the range of the species, based on some level of survey effort. Habitat was frequently mentioned as well as other aspects of the species' biology, such as food habitats. Population size or abundance, if addressed, was rarely quantified, and the database instead used descriptors such as large, small, or numerous. The available information we reviewed did not address specific threats to the species. Category B contains 38 species, of which 2 are vertebrates, 25 are invertebrates, and 11 are plants.

An example of the type of information we found for species in Category B is illustrated by the Animas Mountains tubeshell (Holospira animasensis). The NatureServe file for the Animas Mountains tubeshell provides one reference, which is a published description of the newly discovered species (Gilbertson and Worthington 2003, pp. 220-224). That article describes the physical characteristics of the species and the habitat in which it was discovered. The article does not address threats to the Animas Mountains tubeshell. The NatureServe file for this species cites Gilbertson and Worthington (2003) and states that live individuals are known only from the north slope of a single hill at the north end of Animas Mountains, and that fossil shells were found from sediments exposed in a mine roadcut on the south side of the hill. The file also states, under Global Protection, that no occurrences are appropriately protected and managed, but under Threats, it states that threats are unknown. This information is typical for the species in Category B.

The information we reviewed for the species in Category C (see Table 1) described one or more threats for the general area, but it did not link the threats to the species or the habitat at the site occupied by the species. Information for species in this category is sometimes provided on distribution, habitat, population size, or other aspects of the species' biology. There are five species in Category C, of which one is an invertebrate and four are plants.

An example of the type of information we reviewed for Category C species is for Panicum mohavense (Mojave panicgrass), which occurs at one site on a large military base in New Mexico and five sites in Arizona. The NatureServe file states that for the New Mexico site, there is some grazing in the remote area where the species occurs, but that the threat to the species is unknown. The habitat is described for all of the sites, but no threats are mentioned for the sites in Arizona. Ladyman (1999), which was cited in NatureServe, did not name additional threats to the species, but recommended additional surveys to determine habitat requirements and abundance.

The information we reviewed for the species in Category D (see Table 1) cited one or more threats and generally linked them to the species or its habitat. However, we have no documentation to support significant impacts from the threats. These species are addressed in the Threats Analysis section. There are two species in Category D, both of which are plants.

This finding addresses the 270 petitioned species that are listed in Table 1. Of the 270 species, 3 are vertebrates, 215 are invertebrates, and 52 are plants.

Table 1—List of 270 Species Included in This Finding by Category. An Asterisk Denotes Species in the June 12, 2008 Petition to Emergency List 32 Species
Category | Scientific name | Common name | Range | Group
A | Eurycea sp. 10 | Dolan Falls Salamander | TX | vertebrate
A | Gammarus pecos | Pecos Amphipod | TX | invertebrate
A | Hyalella texana | Clear Creek Amphipod | TX | invertebrate
A | Agylla septentrionalis | A Tiger Moth | AZ | invertebrate
A | Sonorarctia fervida | A Tiger Moth | AZ | invertebrate
A | Ceratopsyche vanaca | A Caddisfly | NM | invertebrate
A | Hydroptila abbotti | A Caddisfly | TX | invertebrate
A | Neotrichia juani | A Caddisfly | TX | invertebrate
A | Neotrichia sonora | A Caddisfly | TX | invertebrate
A | Taeniopteryx starki | Texas Willowfly | TX | invertebrate
A | Melanoplus chiricahuae | A Spur-throat Grasshopper | AZ | invertebrate
A | Melanoplus pinaleno | A Spur-throat Grasshopper | AZ | invertebrate
A | Agathon arizonicus | A Net-winged Midge | AZ | invertebrate
A | Isoperla sagittata | A Stonefly | TX | invertebrate
A | Phreatodrobia conica | Hueco Cavesnail | TX | invertebrate
A | Pyrgulopsis sola | Brown Springsnail | AZ | invertebrate
A | Pyrgulopsis sp. 2 | Mimbres Springsnail | NM | invertebrate
A | Stygopyrgus bartonensis | Barton Cavesnail | TX | invertebrate
A | Texapyrgus longleyi | Striated Hydrobe | TX | invertebrate
A | Tryonia brunei | Brune Spring Snail | TX | invertebrate
A | Tryonia diaboli | Devil Tryonia | TX | invertebrate
A | Ashmunella animasensis | Animas Peak Woodlandsnail | NM | invertebrate
A | Ashmunella ashmuni | Jemez Woodlandsnail | NM | invertebrate
A | Ashmunella bequaerti | Goat Cave Woodlandsnail | TX | invertebrate
A | Ashmunella binneyi | Silver Creek Woodlandsnail | NM | invertebrate
A | Ashmunella danielsi | Whitewater Creek Woodlandsnail | NM | invertebrate
A | Ashmunella edithae | Mckittrick Woodlandsnail | TX | invertebrate
A | Ashmunella ferrissi | Reed's Mountain Woodlandsnail | AZ | invertebrate
A | Ashmunella lenticula | Horseshoe Canyon Woodlandsnail | AZ | invertebrate
A | Ashmunella mendax | Iron Creek Woodlandsnail | NM | invertebrate
A | Ashmunella mogollonensis | Mogollon Woodlandsnail | AZ | invertebrate
A | Ashmunella mudgei | Sawtooth Mountain Woodlandsnail | TX | invertebrate
A | Ashmunella pilsbryana | Blue Mountain Woodlandsnail | AZ | invertebrate
A | Ashmunella pseudodonta | Capitan Woodlandsnail | NM | invertebrate
A | Ashmunella rileyensis | Mount Riley Woodlandsnail | NM | invertebrate
A | Ashmunella salinasensis | Salinas Peak Woodlandsnail | NM | invertebrate
A | Ashmunella todseni | Maple Canyon Woodlandsnail | NM | invertebrate
A | Ashmunella walkeri | Florida Mountain Woodlandsnail | NM | invertebrate
A | Coelostemma pyrgonasta | Bishop Cap Tubesnail | NM | invertebrate
A | Daedalochila scintilla | A Terrestrial Snail | TX | invertebrate
A | Gastrocopta prototypus | Sonoran Snaggletooth | AZ, NM | invertebrate
A | Gastrocopta ruidosensis | Ruidoso Snaggletooth | KS, NE, NM, OK, TX | invertebrate
A | Holospira cockerelli | Cockerell Holospira | NM | invertebrate
A | Holospira metcalfi | Metcalf Holospira | NM | invertebrate
A | Holospira sherbrookei | Silver Creek Holospira | AZ | invertebrate
A | Humboldtiana fullingtoni | Capote Threeband | TX | invertebrate
A | Naesiotus christenseni | Santa Rita Rabdotus | AZ | invertebrate
A | Nesovitrea suzannae | Live Oak Glass | TX | invertebrate
A | Oreohelix barbata | Bearded Mountainsnail | AZ, NM | invertebrate
A | Oreohelix confragosa | Pinos Altos Mountainsnail | NM | invertebrate
A | Oreohelix houghi | Diablo Mountainsnail | AZ, NM | invertebrate
A | Oreohelix litoralis | San Agustin Mountainsnail | NM | invertebrate
A | Oreohelix magdalenae | Magdalena Mountainsnail | NM | invertebrate
A | Oreohelix swopei | Morgan Creek Mountainsnail | NM, WY | invertebrate
A | Pallifera tournescalis | Ouachita Mantleslug | OK | invertebrate
A | Paravitrea alethia | Goddess Supercoil | TN, TX | invertebrate
A | Patera leatherwoodi | Pedernales Oval | TX | invertebrate
A | Philomycus batchi | Dusky Mantleslug | OK | invertebrate
A | Philomycus bisdodus | Grayfoot Mantleslug | OK | invertebrate
A | Sonorella anchana | Sierra Ancha Talussnail | AZ | invertebrate
A | Sonorella animasensis | Animas Talussnail | NM | invertebrate
A | Sonorella apache | Apache Talussnail | AZ | invertebrate
A | Sonorella bagnarai | Rincon Talussnail | AZ | invertebrate
A | Sonorella bartschi | Escabrosa Talussnail | AZ | invertebrate
A | Sonorella binneyi | Horseshoe Canyon Talussnail | AZ | invertebrate
A | Sonorella bowiensis | Quartzite Hill Talussnail | AZ, CA | invertebrate
A | Sonorella bradshaveana | Bradshaw Talussnail | AZ | invertebrate
A | Sonorella clappi | Madera Talussnail | AZ | invertebrate
A | Sonorella coltoniana | Walnut Canyon Talussnail | AZ | invertebrate
A | Sonorella compar | Oak Creek Talussnail | AZ | invertebrate
A | Sonorella dalli | Garden Canyon Talussnail | AZ | invertebrate
A | Sonorella delicata | Tollhouse Canyon Talussnail | AZ | invertebrate
A | Sonorella dragoonensis | Stronghold Canyon Talussnail | AZ | invertebrate
A | Sonorella ferrissi | Dragoon Talussnail | AZ | invertebrate
A | Sonorella imperatrix | Total Wreck Talussnail | AZ | invertebrate
A | Sonorella imperialis | Empire Mountain Talussnail | AZ | invertebrate
A | Sonorella insignis | Whetstone Talussnail | AZ | invertebrate
A | Sonorella meadi | Aqua Dulce Talussnail | AZ | invertebrate
A | Sonorella micromphala | Milk Ranch Talussnail | AZ | invertebrate
A | Sonorella reederi | Rampart Talussnail | AZ | invertebrate
A | Sonorella russelli | Black Mesa Talussnail | AZ | invertebrate
A | Sonorella tryoniana | Sanford Talussnail | AZ | invertebrate
A | Sonorella vespertina | Evening Talussnail | AZ | invertebrate
A | Sonorella waltoni | Doubtful Canyon Talussnail | AZ | invertebrate
A | Vertigo berryi | Rotund Vertigo | AZ, CA | invertebrate
A* | Vertigo binneyana | Cylindrical Vertigo | CAN: BC, MB, ON; USA: IA, KS, MT, NM | invertebrate
A | Cisthene conjuncta | A Tiger Moth | TX | invertebrate
A | Catinella texana | A Terrestrial Snail | LA, TX | invertebrate
A | Artesia subterranea | A Cave Obligate Amphipod | TX | invertebrate
A | Artesia welbourni | A Cave Obligate Amphipod | TX | invertebrate
A | Caecidotea adenta | A Cave Obligate Isopod | OK | invertebrate
A | Caecidotea bisetus | A Cave Obligate Isopod | TX | invertebrate
A | Holsingerius smaragdinus | A Cave Obligate Amphipod | TX | invertebrate
A | Seborgia hershleri | A Cave Obligate Amphipod | TX | invertebrate
A | Stygobromus bowmani | Bowman's Cave Amphipod | OK | invertebrate
A | Stygobromus reddelli | Reddell's Cave Amphipod | TX | invertebrate
A | Batrisodes grubbsi | A Beetle | TX | invertebrate
A | Rhadine austinica | A Cave Obligate Beetle | TX | invertebrate
A | Rhadine insolita | A Cave Obligate Beetle | TX | invertebrate
A | Rhadine noctivaga | A Cave Obligate Beetle | TX | invertebrate
A | Rhadine russelli | A Cave Obligate Beetle | TX | invertebrate
A | Alexicles aspersa | A Tiger Moth | AZ, NM | invertebrate
A | Lepidostoma ozarkense | A Caddisfly | AR, OK | invertebrate
A | Neotrichia mobilensis | A Caddisfly | AL, TX | invertebrate
A | Ochrotrichia guadalupensis | A Caddisfly | TX | invertebrate
A | Melanoplus alexanderi | A Grasshopper | TX | invertebrate
A | Melanoplus magdalenae | A Spur-throat Grasshopper | AZ, NM | invertebrate
A | Baetodes alleni | A Mayfly | TX | invertebrate
A | Thalkethops grallatrix | A Cave Obligate Centipede | NM | invertebrate
A | Balconorbis uvaldensis | Balcones Ghostsnail | TX | invertebrate
A | Phreatoceras taylori | Nymph Trumpet | TX | invertebrate
A | Phreatodrobia coronae | A Cavesnail | TX | invertebrate
A | Phreatodrobia rotunda | Beaked Cavesnail | TX | invertebrate
A | Ashmunella chiricahuana | Cave Creek Woodlandsnail | AZ | invertebrate
A | Ashmunella esuritor | Barfoot Woodlandsnail | AZ | invertebrate
A | Ashmunella lepiderma | Whitetail Woodlandsnail | AZ | invertebrate
A | Ashmunella rhyssa | Sierra Blanca Woodlandsnail | NM | invertebrate
A | Deroceras heterura | Marsh Slug | NM | invertebrate
A | Holospira tantalus | Teasing Holospira | AZ | invertebrate
A | Holospira whetstonensis | Whetstone Holospira | AZ | invertebrate
A | Neohelix lioderma | Tulsa Whitelip | OK | invertebrate
A | Sonorella caerulifluminis | Blue Talussnail | AZ | invertebrate
A | Sonorella micra | Pygmy Sonorella | AZ | invertebrate
A | Sonorella neglecta | Portal Talussnail | AZ | invertebrate
A | Apocheiridium reddelli | A Cave Obligate Pseudoscorpion | TX | invertebrate
A | Archeolarca guadalupensis | Guadalupe Cave Pseudoscorpion | TX | invertebrate
A | Archeolarca welbourni | A Cave Obligate Pseudoscorpion | AZ | invertebrate
A | Cheiridium reyesi | A Cave Obligate Pseudoscorpion | TX | invertebrate
A | Chitrella elliotti | A Cave Obligate Pseudoscorpion | TX | invertebrate
A | Chitrella major | A Cave Obligate Pseudoscorpion | TX | invertebrate
A | Chitrella welbourni | A Cave Obligate Pseudoscorpion | NM | invertebrate
A | Cicurina barri | A Cave Obligate Spider | TX | invertebrate
A | Cicurina caverna | A Cave Obligate Spider | TX | invertebrate
A | Cicurina coryelli | A Cave Obligate Spider | TX | invertebrate
A | Cicurina cueva | A Cave Spider | TX | invertebrate
A | Cicurina ezelli | A Cave Obligate Spider | TX | invertebrate
A | Cicurina gruta | A Cave Obligate Spider | TX | invertebrate
A | Cicurina holsingeri | A Cave Obligate Spider | TX | invertebrate
A | Cicurina machete | A Cave Obligate Spider | TX | invertebrate
A | Cicurina mckenziei | A Cave Obligate Spider | TX | invertebrate
A | Cicurina medina | A Cave Obligate Spider | TX | invertebrate
A | Cicurina menardia | A Cave Obligate Spider | TX | invertebrate
A | Cicurina obscura | A Cave Obligate Spider | TX | invertebrate
A | Cicurina orellia | A Cave Obligate Spider | TX | invertebrate
A | Cicurina pablo | A Cave Obligate Spider | TX | invertebrate
A | Cicurina pastura | A Cave Obligate Spider | TX | invertebrate
A | Cicurina patei | A Cave Obligate Spider | TX | invertebrate
A | Cicurina porteri | A Cave Obligate Spider | TX | invertebrate
A | Cicurina puentecilla | A Cave Obligate Spider | TX | invertebrate
A | Cicurina rainesi | A Cave Obligate Spider | TX | invertebrate
A | Cicurina reclusa | A Cave Obligate Spider | TX | invertebrate
A | Cicurina reddelli | A Cave Obligate Spider | TX | invertebrate
A | Cicurina reyesi | A Cave Obligate Spider | TX | invertebrate
A | Cicurina russelli | A Cave Obligate Spider | TX | invertebrate
A | Cicurina sansaba | A Cave Obligate Spider | TX | invertebrate
A | Cicurina selecta | A Cave Obligate Spider | TX | invertebrate
A | Cicurina serena | A Cave Obligate Spider | TX | invertebrate
A | Cicurina sheari | A Cave Obligate Spider | TX | invertebrate
A | Cicurina sprousei | A Cave Obligate Spider | TX | invertebrate
A | Cicurina stowersi | A Cave Obligate Spider | TX | invertebrate
A | Cicurina suttoni | A Cave Obligate Spider | TX | invertebrate
A | Cicurina travisae | A Cave Obligate Spider | TX | invertebrate
A | Cicurina ubicki | A Cave Obligate Spider | TX | invertebrate
A | Cicurina uvalde | A Cave Obligate Spider | TX | invertebrate
A | Cicurina venefica | A Cave Obligate Spider | TX | invertebrate
A | Cicurina vibora | A Cave Obligate Spider | TX | invertebrate
A | Cicurina watersi | A Cave Obligate Spider | TX | invertebrate
A | Leucohya texana | A Cave Obligate Pseudoscorpion | TX | invertebrate
A | Mexichthonius exoticus | A Cave Obligate Pseudoscorpion | TX | invertebrate
A | Neoallochernes incertus | A Cave Obligate Pseudoscorpion | NM | invertebrate
A | Neoleptoneta concinna | A Cave Obligate Spider | TX | invertebrate
A | Neoleptoneta devia | A Cave Obligate Spider | TX | invertebrate
A | Neoleptoneta valverde | A Cave Obligate Spider | TX | invertebrate
A | Pseudogarypus hypogeus | A Cave Obligate Pseudoscorpion | AZ | invertebrate
A | Tartarocreagris intermedia | A Cave Obligate Pseudoscorpion | TX | invertebrate
A | Texella brevidenta | A Cave Obligate Harvestman | TX | invertebrate
A | Texella brevistyla | A Cave Obligate Harvestman | TX | invertebrate
A | Texella diplospina | A Cave Obligate Harvestman | TX | invertebrate
A | Texella fendi | A Harvestman | TX | invertebrate
A | Texella grubbsi | A Cave Obligate Harvestman | TX | invertebrate
A | Texella hardeni | A Cave Obligate Harvestman | TX | invertebrate
A | Texella renkesae | A Cave Obligate Harvestman | TX | invertebrate
A | Texella welbourni | A Cave Obligate Harvestman | NM | invertebrate
A | Tuberochernes ubicki | A Cave Obligate Pseudoscorpion | AZ | invertebrate
A | Tyrannochthonius troglodytes | A Cave Obligate Pseudoscorpion | TX | invertebrate
A | Holospira millestriata | A Terrestrial Snail | AZ | invertebrate
A | Succinea pseudavara | A Terrestrial Snail | KS, OK | invertebrate
A | Apatania arizona | A Caddisfly | AZ | invertebrate
A | Chimarra holzenthali | A Caddisfly | LA, TX | invertebrate
A | Chimarra primula | A Caddisfly | AZ | invertebrate
A | Catapyrenium granulosum | No common name | NM | lichens
A | Xanthoparmelia dissensa | No common name | AZ, NM | lichens
A | Cirsium rusbyi | Rusby's Thistle | AZ | plant
A | Lupinus lemmonii | Lemmon's Lupine | AZ | plant
A | Aconitum infectum | Arizona Monkshood | AZ | plant
A | Centaurium blumbergianum | Blumberg Rosita | TX | plant
A | Crataegus nananixonii | Nixon's Hawthorn | TX | plant
A | Eleocharis brachycarpa | Short-fruited Spikerush | TX | plant
A | Opuntia martiniana | Seashore Cactus | AZ | plant
A | Tetraneuris verdiensis | No common name | AZ | plant
A | Fissidens littlei | No common name | NM | plant
A | Arabis tricornuta | Rincon Mountain Rockcress | AZ | plant
A | Camissonia gouldii | Diamond Valley Suncup | AZ, UT | plant
A | Lesquerella lata | Lincoln County Bladderpod | NM | plant
A | Dryopteris rossii | Ros's Woodfern | AZ | plant
A | Talinum gooddingii | Goodding's Flameflower | AZ | plant
A | Cuscuta dentatasquamata | Los Pinitos Dodder | AZ | plant
A | Potentilla albiflora | White-flowered Cinquefoil | AZ | plant
A | Agalinis calycina | Leoncita False Foxglove | TX, NM | plant
A | Arida mattturneri | No Common Name | TX | plant
A | Eriogonum terrenatum | San Pedro River Wild Buckwheat | AZ | plant
A | Hedyotis butterwickiae | Mary's Bluet | TX | plant
A | Machaeranthera gypsitherma | Gypsum Hotspring Aster | NM, TX | plant
A | Matelea texensis | Trans Pecos Matelea | TX | plant
A | Mentzelia memorabalis | September 11 Stickleaf | AZ | plant
A* | Paronychia maccartii | Mccart's Whitlow-wort | TX | plant
A | Perityle fosteri | Foster's Rockdaisy | TX | plant
A | Perityle vitreomontana | Glass Mountains Rockdaisy | TX | plant
A | Physalis latiphysa | Broad-leaf Ground-cherry | AZ | plant
A* | Pseudoclappia watsonii | Watson's False-clappia | TX | plant
A | Scutellaria laevis | Smooth-stem Skullcap | TX | plant
A | Senecio quaylei | Quayle's Ragwort | TX | plant
A | Yucca cernua |  | TX | plant
A | Camissonia confertiflora | Bunch Flower Evening Primrose | AZ | plant
A | Thelypodium tenue | Fresno Creek Thelypody | TX | plant
B | Menidia clarkhubbsi | Texas Silverside | TX | vertebrate
B | Syngnathus affinis | Texas Pipefish | TX | vertebrate
B* | Procambarus nueces | Nueces Crayfish | TX | invertebrate
B* | Isoperla jewetti | A Stonefly | CO, NM, TX | invertebrate
B | Juturnia tularosae | Tularosa Juturnia | NM | invertebrate
B | Ashmunella harrisi | Goat Mountain Woodlandsnail | NM | invertebrate
B | Humboldtiana agavophila | Agave Threeband | TX | invertebrate
B | Humboldtiana chisosensis | Chisos Threeband | TX | invertebrate
B | Hemigrapsus oregonensis | Yellow Shore Crab | TX | invertebrate
B | Streptocephalus thomasbowmani | Bowman's Fairy Shrimp | NM | invertebrate
B | Stygobromus blinni | Blinn's Amphipod | AZ | invertebrate
B | Stygobromus boultoni | Boulton's Amphipod | AZ | invertebrate
B | Stygobromus curroae | Curro's Amphipod | NM | invertebrate
B | Stygobromus dejectus | Cascade Cave Amphipod | TX | invertebrate
B | Stygobromus hadenoecus | Devil's Sinkhole Amphipod | TX | invertebrate
B | Stygobromus jemezensis | Jemez Mountains Amphipod | NM | invertebrate
B | Culoptila kimminsi | A Caddisfly | AZ | invertebrate
B | Culoptila moselyi | A Caddisfly | AZ | invertebrate
B | Ochrotrichia weddleae | A Caddisfly | AR, OK | invertebrate
B* | Fallceon eatoni | A Mayfly | AZ | invertebrate
B | Holospira animasensis | Animas Mountains Tubeshell | NM | invertebrate
B | Cicurina bandida | Bandit Cave Spider | TX | invertebrate
B | Cicurina browni | A Cave Obligate Spider | TX | invertebrate
B | Eidmannella bullata | A Cave Obligate Spider | TX | invertebrate
B | Eidmannella delicata | A Cave Obligate Spider | TX | invertebrate
B | Eidmannella nasuta | A Cave Obligate Spider | TX | invertebrate
B | Eidmannella reclusa | A Cave Obligate Spider | TX | invertebrate
B* | Donrichardsia macroneuron | No Common Name | TX | plant
B | Erigeron kuschei | Chiricahua Fleabane | AZ | plant
B | Perityle ambrosiifolia | Lace-leaf Rockdaisy | AZ | plant
B | Perityle ajoensis | Ajo Rockdaisy | AZ | plant
B | Townsendia smithii | Black Rock Ground-daisy | AZ | plant
B* | Proboscidea spicata | Many-flowered Unicorn-plant | TX | plant
B | Sclerocactus sileri | Siler's Fishhook Cactus | AZ | plant
B | Silene rectiramea | Grand Canyon Catchfly | AZ | plant
B | Viola guadalupensis | Guadalupe Mountains Violet | TX | plant
B | Cyperus cephalanthus | Cryptic Flatsedge | LA, TX | plant
B | Lechea mensalis | Chisos Pinweed | TX | plant
C | Procambarus steigmani | Parkhill Prairie Crayfish | TX | invertebrate
C | Houstonia correllii | Correll's Bluet | TX | plant
C | Panicum mohavense | Mojave Panicgrass | AZ, NM | plant
C | Paronychia lundelliorum | Lundell's Nailwort | TX | plant
C | Erigeron heliographis | Heliograph Peak Fleabane | AZ | plant
D | Erigeron hessii | Hess' Fleabane | NM | plant
D | Cymopterus beckii | Pinnate Spring-parsley | AZ, UT | plant

Threats Analysis

Section 4 of the Act (16 U.S.C. 1533) and its implementing regulations (50 CFR 424) set forth the procedures for adding species to the Federal Lists of Endangered and Threatened Wildlife and Plants. A species, subspecies, or distinct population segment of vertebrate taxa may be determined to be endangered or threatened due to one or more of the five factors described in section 4(a)(1) of the Act: (A) The present or threatened destruction, modification, or curtailment of its habitat or range; (B) overutilization for commercial, recreational, scientific, or educational purposes; (C) disease or predation; (D) inadequacy of existing regulatory mechanisms; or (E) other natural or manmade factors affecting its continued existence.

In making this 90-day finding, we evaluated whether information on threats to the 270 species, as presented in the petition and other readily available information at the time of the petition review, is substantial, thereby indicating that the petitioned action may be warranted. Our evaluation of this information is presented below.

A. Present or Threatened Destruction, Modification, or Curtailment of the Species' Habitat or Range

For those species we placed in Categories A, B, and C, no information was presented on threats to the species or their habitats; therefore we find the petition, including all available references and the NatureServe species files, does not present substantial information that the present or threatened destruction, modification, or curtailment of the species' habitat or range is a threat to any of the 268 species in Categories A, B, and C. For one of the two plant species in Category D (Table 1), information related to habitat impacts at one or more occupied sites is presented.

Cymopterus beckii (pinnate spring-parsley) occurs in 1 area in Arizona and in 2 areas in Utah; within the 2 areas in Utah, it is known to occur at more than 40 sites, most discovered in the past 10 years. NatureServe (http://www.natureserve.org/explorer/) cites park visitor impacts, presumably trampling, as a potential threat at Capitol Reef National Park in Utah. However, following 3 years of intensive surveys in the 2 Utah areas where the species was found at 42 new sites, Clark (2002, p. 49) stated that the majority of the new sites are in remote locations with difficult accessibility that serves to protect the plants from human disturbance. No additional threats were identified for those new sites, and we found no information about threats to the species in Arizona (Arizona Game and Fish Department 2004, p. 4). Therefore, we find the petition and supporting information does not present substantial scientific or commercial information to indicate C. beckii is threatened by the present or threatened destruction, modification, or curtailment of its habitat or range.

B. Overutilization for Commercial, Recreational, Scientific, or Educational Purposes

For those species we placed in Categories A, B, and C, no information was presented on threats to the species or their habitats; therefore we find the petition, including all available references and the NatureServe species files, does not present substantial information that overutilization for commercial, recreational, scientific, or educational purposes is a threat to 268 of the 270 species. For one of the two plants in Category D (Table 1), information related to overutilization for recreational use at one or more occupied sites is presented. This information is discussed below.

Erigeron hessii (Hess' fleabane) is known from two sites in a Wilderness Area on the Gila National Forest in New Mexico. Plants are scattered in crevices of exposed rock (Nesom 1978, p. 443). The known sites are in a remote area (Sivinski 1998, p. 2). The NatureServe file contains a statement that at one of the sites, those plants that occur on a scenic overlook at the top of the outcrop that is occupied by the species may be trampled by hikers. No references are cited for this statement, and none of the references cited in the NatureServe file mention trampling by hikers (Kartez 1994; Nesom 1978; New Mexico Native Plant Protection Advisory Committee (NMPPAC 1984, p. 28); Sivinski 1998; Sivinski and Lightfoot 1995), although Nesom (1978, p. 443) and NMPPAC (1984, p. 28) state that at one site, it occurs along one or more trails. Robert Sivinski is the sole State-employed botanist in New Mexico responsible for rare plants in the State. He leads the New Mexico Rare Plant Technical Committee (NMRPTC), formerly the NMPPAC, which meets regularly to review and update information on the status of rare New Mexico plants. Sivinski (1998), which is cited in NatureServe, appeared on the NMRTPC Web site in 1998, but is currently not readily available. In the 2008 version on the NMRTPC Web site that was accessed by the Service on March 4, 2008 at http://nmrareplants.unm.edu/rarelist.php, it states that there are no current land uses that threaten the species and points out that it is within a Wilderness Area, where major ground disturbing activities are prohibited. The NMPPAC (1984, p. 28) stated that no threats were known. The NMRPTC 2008 Web site also provides a recommendation that surveys be conducted for the species at additional suitable rock outcrops in the area.

For Erigeron hessii, we find that although a specific threat to each species was mentioned in NatureServe for a single site or area, additional substantial information was presented in cited references or was readily available to us that the species is not threatened by overutilization for recreational purposes. Therefore, the petition does not present substantial information that overutilization for commercial, recreational, scientific, or educational purposes is a threat to this species.

C. Disease or Predation

For those species we placed in Categories A, B, and C, no information was presented on threats to the species or their habitats; therefore we find the petition, including all available references and the NatureServe species files, does not present substantial information that disease or predation is a threat to any of the 268 species in Categories A, B, and C. For the two remaining species in Category D, no information on threats due to disease or predation was presented. Therefore we find that the petition does not present substantial scientific or commercial information that the petitioned action may be warranted due to threats from this factor.

D. Inadequacy of Existing Regulatory Mechanisms

The petition discusses the lack of protection under the Act for the petitioned species, stating that unless a species is listed as threatened or endangered under the Act, it receives no protections from the statute. The petition provides no information addressing any other State or Federal regulations, and no information about the inadequacy of existing regulatory mechanisms.

The petitioner's claim that we could afford more protection to these petitioned species if they were listed under the Act does not provide substantial information that the existing regulatory mechanisms are inadequate. As the petitioner acknowledges, under 16 U.S.C. 1533(b)(1)(A), we must reach our determination solely on the basis of the best scientific and commercial data available. The petition did not present any specific information related to other Federal, State, or local government regulatory mechanisms that may exist to provide regulatory protections for the 270 species or their respective habitats. Therefore, we conclude that the petition does not present substantial information that any of the 270 species may warrant listing due to inadequacy of existing regulatory mechanisms.

E. Other Natural or Manmade Factors Affecting the Species' Continued Existence

While we recognize that many of the species contained within the NatureServe database have limited distribution or small population size, limited distribution and population size were not identified as threats faced by the any of the 270 species in the petition, including all available references and the NatureServe species files and these two factors alone without elaboration may not be substantial information that may warrant listing under the Act. No other information that could be categorized under Factor E was presented in the petition or was readily available to us for the species in any of the four categories. Therefore, we conclude that the petition does not present substantial information that other natural or manmade factors affecting the species' continued existence are a threat to any of the 270 species.

Finding

We have reviewed and evaluated the five listing factors with regard to 270 of the 475 petitioned species, based on the information in the petition and the literature cited in the petition, and we have evaluated the information to determine whether the sources cited support the claims made in the petition. We also reviewed reliable information that was readily available to us. Based on this review and evaluation, we find that the petition does not present substantial scientific or commercial information that listing these 270 species as threatened or endangered under the Act may be warranted. For 8 of the 32 species we were petitioned in 2008 to emergency list, we also find that the 2007 petition, the 2008 petition, NatureServe, references cited in the petitions and in NatureServe, and information readily available to us did not present substantial information that emergency listing those 8 species is warranted. Although we will not commence a status review in response to 270 of the 475 species petitioned in 2007 and 8 of the 32 species petitioned in 2008, we will continue to accept information and materials regarding any of the 270 species at our Southwest Regional Ecological Services Office (see ADDRESSES). Further, as indicated previously, we will address the remaining 200 species in future findings.

References Cited

A complete list of references cited is available on the Internet at http://www.regulations.gov and upon request from the Southwest Regional Ecological Services Office (see ADDRESSES).

Author

The primary authors of this document are the staff members of the Southwest Regional Ecological Services Office (see ADDRESSES).

Authority

The authority for this action is the Endangered Species Act of 1973, as amended (U.S.C. 1531 et seq.).

Dated: December 23, 2008.
Kenneth Stansell,
Acting Deputy Director, U.S. Fish and Wildlife Service.

[FR Doc. E8-31454 Filed 1-5-09; 8:45 am]

BILLING CODE 4310-55-P